LEGAL SERVICES CORPORATION

Sunshine Act Meeting Notice

DATE AND TIME: The Legal Services Corporation's Board of Directors and its six committees will meet July 21-23, 2013. On Sunday, July 21, the first meeting will commence at 1:30 p.m., Mountain Daylight Time (MDT), with the meeting thereafter commencing promptly upon adjournment of the immediately preceding meeting. On Monday, July 22, the first meeting will commence at 1:45 p.m., MDT, with each meeting thereafter commencing promptly upon adjournment of the immediately preceding meeting. On Tuesday, July 23, the first meeting will commence at 8:30 a.m., MDT, and it will be followed by the meeting of the Board of Directors which will commence promptly upon adjournment of the first meeting.

LOCATION: Millennium Ballroom, Warwick Hotel, 1776 Grant Street, Denver, Colorado 80203.

PUBLIC OBSERVATION: Unless otherwise noted herein, the Board and all committee meetings will be open to public observation. Members of the public who are unable to attend in person but wish to listen to the public proceedings may do so by following the telephone call-in directions provided below.

CALL-IN DIRECTIONS FOR OPEN SESSIONS:

• Call toll-free number: 1-866-451-4981;

• When prompted, enter the following numeric pass code: 5907707348

• When connected to the call, please immediately “MUTE” your telephone.

Members of the public are asked to keep their telephones muted to eliminate background noises. To avoid disrupting the meeting, please refrain from placing the call on hold if doing so will trigger recorded music or other sound. From time to time, the presiding Chair may solicit comments from the public.

Meeting Schedule

Sunday, July 21, 2013 | Time*
1. Finance Committee | 1:30 p.m.
2. Audit Committee
3. Institutional Advancement Committee
Monday, July 22, 2013
1. Operations and Regulations Committee | 1: 45 p.m.
2. Promotion & Provision for the Delivery of Legal Services Committee
Tuesday, July 23, 2013
1. Governance and Performance Review Committee | 8:30 a.m.
2. Board of Directors
* Please note that all times in this notice are in the Mountain Daylight Time.

STATUS OF MEETING: Open, except as noted below.

Board of Directors—Open, except that, upon a vote of the Board of Directors, a portion of the meeting may be closed to the public to hear briefings by management and LSC's Inspector General, to consider and act on the General Counsel's report on potential and pending litigation involving LSC and on a list of prospective funders, and to receive a presentation by, and discuss with, the General Counsel on privileged legal advice.**

Institutional Advancement Committee—Open, except that, upon a vote of the Board of Directors, the meeting may be closed to the public to discuss prospective funders for LSC's 40th anniversary celebration and development activities, prospective honorees for LSC's 40th anniversary celebration, and prospective members for an LSC 40th anniversary honorary committee.

Audit Committee—Open, except that, upon a vote of the Board of Directors, the meeting may be closed to the public to further discuss follow-up work by the Office of Compliance and Enforcement relating to open Office of Inspector General investigations.**

** Any portion of the closed session consisting solely of briefings does not fall within the Sunshine Act's definition of the term “meeting” and, therefore, the requirements of the Sunshine Act do not apply to such portion of the closed session. 5 U.S.C. 552b(a)(2) and (b). See also 45 CFR 1622.2 & 1622.3.

A verbatim written transcript will be made of the closed session of the Board, Institutional Advancement Committee, and Audit Committee meetings. The transcript of any portions of the closed session falling within the relevant provisions of the Government in the Sunshine Act, 5 U.S.C. 552b(c)(6), (7), (9) and (10), will not be available for public inspection. A copy of the General Counsel's Certification that, in his opinion, the closing is authorized by law will be available upon request.

MATTERS TO BE CONSIDERED:

July 21, 2013

Finance Committee

1. Approval of agenda

2. Presentation on LSC's financial report for the eight-month period ending May 31, 2013

• Presentation by David Richardson, Treasurer/Comptroller

3. Consider and act on a Revised Consolidated Operating Budget for FY 2013, including internal budgetary adjustments and COB reallocation, and recommendation of Resolution 2013-XXX to the Board of Directors

• Presentation by David Richardson, Treasurer/Comptroller

4. Report of the selection of accounts and depositories for LSC Funds

• Presentation by David Richardson, Treasurer & Comptroller

5. Discussion regarding the status of the FY 2014 appropriations process

• Carol Bergman, Director, Government Relations and Public Affairs

6. Consider and act on the recommendation to the Board on Temporary Operating Authority for FY 2014 and recommendation of Resolution 2013-XXX to the Board of Directors

• David Richardson, Treasurer/Comptroller

7. Consider and act on recommendation to the Board of Directors for FY 2015 appropriation request

• Presentation by Jim Sandman, President

8. Public comment

9. Consider and act on other business

10. Consider and act on adjournment of meeting

Audit Committee

Open Session

1. Approval of agenda

2. Report on Management activities for grantee training

• Lynn Jennings, Vice President for Grants Management

3. Briefing by Office of Inspector General

• Jeffrey Schanz, Inspector General

4. Further discussion regarding risk assessment by Management and the Office of Inspector General

• Jim Sandman, President

• Ronald Flagg, Vice President for Legal Affairs

• David Richardson, Treasurer/Comptroller

• Jeffrey Schanz, Office of Inspector General

5. Further discussion of Compliance and Enforcement follow-up to OIG investigation and audit reports

• Jeffrey Schanz, Inspector General

• Lora Rath, Director of Compliance and Enforcement

6. Public comment

7. Consider and act on other business

Closed Session

8. Further discussion of Office of Compliance and Enforcement follow-up to OIG open investigations

• Jeffrey Schanz, Inspector General

• Lora Rath, Director of Compliance and Enforcement

9. Consider and act on adjournment of meeting

Institutional Advancement Committee

Open Session

1. Approval of agenda

2. Approval of minutes of the Committee's open session meeting of April 9, 2013

3. Approval of minutes of the Committee's open session meeting of April 15, 2013

4. Approval of minutes of the Committee's open session meeting of April 23, 2013

5. Approval of minutes of the Committee's open session meeting of May 14, 2013

6. Approval of minutes of the Committee's open session meeting of May 28, 2013

7. Approval of minutes of the Committee's open session meeting of June 11, 2013

8. Discussion of LSC's 40th anniversary calendar

9. Consider and act on the Minnesota Charitable Organization Initial Registration and Annual Report Form

• Resolution 2013-XXX Approving the Minnesota Charitable Organization Initial Registration and Annual Report Form

10. Consider and act on the North Dakota Charitable Organization Registration Statement

• Resolution 2013-XXX Approving the North Dakota Charitable Organization Registration Statement

11. Discussion of LSC's development plan

12. Public comment

13. Consider and act on other business

Closed Session

14. Approval of minutes of the Committee's closed session meeting of March 26, 2013

15. Approval of minutes of the Committee's closed session meeting of April 9, 2013

16. Approval of minutes of the Committee's closed session meeting of April 15, 2013

17. Approval of minutes of the Committee's closed session meeting of May 14, 2013

18. Discussion of prospective funders for LSC's 40th anniversary celebration and development activities

19. Discussion of prospective honorees for LSC's 40th anniversary celebration

20. Discussion of prospective members for an LSC 40th anniversary honorary committee

21. Consider and act on adjournment of meeting

July 22, 2013

Operations and Regulations Committee

Open Session

1. Approval of agenda

2. Approval of minutes of the Committee's meeting on September 20, 2012

3. Approval of minutes of the Committee's meeting on April 14, 2013

4. Discussion of 45 CFR part 1613— Restrictions on Legal Assistance with Respect to Criminal Proceedings, and the Tribal Law and Order Act of 2010, Title II of Public Law 111-211

(a) Panel discussion regarding the effects of the Tribal Law and Order Act of 2010 on LSC recipients serving tribal communities

• Gloria Valencia-Weber, LSC Board of Directors, Emerita Professor of Law, University of New Mexico School of Law

• Howard Belodoff, Associate Director and Indian Law Unit Director, Idaho Legal Aid Services, Inc.

• John Dossett, General Counsel, National Congress of American Indians

• Troy Eid, Chair, Indian Law & Order Commission

• Carole Goldberg, Commissioner, Indian Law & Order Commission

• Tracy Toulou, Director, Office of Tribal Justice, U.S. Department of Justice

(b) Public comment

5. Consider and act on 45 CFR part 1626—Restrictions on Legal Assistance to Aliens

(a) Rulemaking Options Paper (ROP) and Notice of Proposed Rulemaking (NPRM) regarding updates to Part 1626 to conform to existing statutory authorities

• Mark Freedman, Senior Assistant General Counsel

• Charlie Martel, Assistant General Counsel (by phone)

(b) Public comment

6. Other public comment

7. Consider and act on other business

8. Consider and act on adjournment of meeting

Promotion and Provision for the Delivery of Legal Services Committee

Open Session

1. Approval of Agenda

2. Approval of Minutes of the Committee's meeting of April 15, 2013

3. Discussion of Committee's charter

4. Presentation by Colorado Legal Services

• Jon Asher, Executive Director

• Patricia Craig, Administrator Northwest Colorado Legal Services Project

• Tina Smith, Client—Eligible Board Member, Board of Directors

5. Public comment

6. Consider and act on other business

7. Consider and act on motion to adjourn the meeting

July 23, 2013

Governance and Performance Review Committee

1. Approval of agenda

2. Approval of minutes of the Committee's meeting of April 14, 2013

3. Report on progress in implementing GAO recommendations

4. Recommendation to Committee on Board evaluations

• Presentation by Carol Bergman

5. Report on Public Welfare Foundation grant and LSC research agenda

• Presentation by Jim Sandman

6. Consider and act on amending the LSC Bylaws to include a Temporary Recess Provision for Committees

• Presentation by Ron Flagg

7. Consider and act on resolution to appoint a new Ethics Officer

• Presentation by Jim Sandman

8. Consider and act on other business

9. Public comment

10. Consider and act on motion to adjourn meeting

July 23, 2013

Board of Directors

Open Session

1. Pledge of Allegiance

2. Approval of agenda

3. Approval of minutes of the Board's meeting of April 16, 2013

4. Approval of minutes of the Board's telephonic meeting of May 21, 2013

5. Chairman's Report

6. Members' Reports

7. President's Report

8. Inspector General's Report

9. Report on implementation of recommendations of the Pro Bono Task Force

10. Consider and act on the report of the Promotion and Provision for the Delivery of Legal Services Committee

11. Consider and act on the report of the Finance Committee

12. Consider and act on the report of the Audit Committee

13. Consider and act on the report of the Operations and Regulations Committee

14. Consider and act on the report of the Governance and Performance Review Committee

15. Consider and act on the report of the Institutional Advancement Committee

16. Public comment

17. Consider and act on other business

18. Consider and act on whether to authorize an executive session of the Board to address items listed below, under Closed Session

Closed Session

19. Approval of minutes of the Board's closed session meeting of April 16, 2013

20. Approval of minutes of the Board's closed session telephonic meeting of May 21, 2013

21. Briefing by Management

22. Briefing by the Inspector General

23. Consider and act on General Counsel's report on potential and pending litigation involving LSC

24. Consider and act on list of prospective funders

25. Presentation by, and discussion with, General Counsel on privileged legal advice

26. Consider and act on motion to adjourn meeting

CONTACT PERSON FOR INFORMATION: Katherine Ward, Executive Assistant to the Vice President & General Counsel, at (202) 295-1628. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: July 12, 2013.
Atitaya C. Rok,
Staff Attorney.

[FR Doc. 2013-17145 Filed 7-12-13; 4:15 pm]

BILLING CODE 7050-01-P